ENVIRONMENTAL PROTECTION AGENCY

[EPA-HQ-OAR-2004-0060; FRL 9521-7]

Agency Information Collection Activities; Submission to OMB for Review and Approval; Comment Request; Certification and Compliance Requirements for Nonroad Spark-Ignition Engines (Renewal)

AGENCY: Environmental Protection Agency (EPA).

ACTION: Notice.

SUMMARY: In compliance with the Paperwork Reduction Act (PRA) (44 U.S.C. 3501 et seq.), this document announces that an Information Collection Request (ICR) has been forwarded to the Office of Management and Budget (OMB) for review and approval. This is a request to renew an existing approved collection. The ICR, which is abstracted below, describes the nature of the information collection and its estimated burden and cost.

DATES: Additional comments may be submitted on or before September 28, 2012.

ADDRESSES: Submit your comments, referencing Docket ID No. EPA-HQ-OAR-2004-0060 to (1) EPA online using www.regulations.gov (our preferred method), by email to a-and-r-docket@epa.gov, or by mail to: EPA Docket Center, Environmental Protection Agency, Air and Radiation Docket (28221T), 1200 Pennsylvania Ave. NW., Washington, DC 20460, and (2) OMB by mail to: Office of Information and Regulatory Affairs, Office of Management and Budget (OMB), Attention: Desk Officer for EPA, 725 17th Street NW., Washington, DC 20503.

FOR FURTHER INFORMATION CONTACT: Nydia Yanira Reyes-Morales, Environmental Protection Agency, 1200 Pennsylvania Avenue, Mail Code 6403J NW., Washington, DC 20460; telephone number: 202-343-9264; fax number: 202-343-2804; email address: reyes-morales.nydia@epa.gov.

SUPPLEMENTARY INFORMATION: EPA has submitted the following ICR to OMB for review and approval according to the procedures prescribed in 5 CFR 1320.12. On March 28, 2012 (77 FR 18802), EPA sought comments on this ICR pursuant to 5 CFR 1320.8(d). EPA received no comments during the comment period. Any additional comments on this ICR should be submitted to EPA and OMB within 30 days of this notice.

EPA has established a public docket for this ICR under Docket ID No. EPA-HQ-OAR-2004-0060, which is available for online viewing at www.regulations.gov, or in person viewing at the Air Docket in the EPA Docket Center (EPA/DC), EPA West, Room 3334, 1301 Constitution Ave. NW., Washington, DC. The EPA/DC Public Reading Room is open from 8:30 a.m. to 4:30 p.m., Monday through Friday, excluding legal holidays. The telephone number for the Reading Room is 202-566-1744, and the telephone number for the Air Docket is 202-566-1742.

Use EPA's electronic docket and comment system at www.regulations.gov, to submit or view public comments, access the index listing of the contents of the docket, and to access those documents in the docket that are available electronically. Once in the system, select “docket search,” then key in the docket ID number identified above. Please note that EPA's policy is that public comments, whether submitted electronically or in paper, will be made available for public viewing at www.regulations.gov as EPA receives them and without change, unless the comment contains copyrighted material, confidential business information (CBI), or other information whose public disclosure is restricted by statute. For further information about the electronic docket, go to www.regulations.gov.

Title: Certification and Compliance Requirements for Nonroad Spark-Ignition Engines (Renewal).

ICR Numbers: EPA ICR No. 1695.10, OMB Control No. 2060-0338.

ICR Status: This ICR is scheduled to expire on August 31, 2012. Under OMB regulations, the Agency may continue to conduct or sponsor the collection of information while this submission is pending at OMB. An Agency may not conduct or sponsor, and a person is not required to respond to, a collection of information, unless it displays a currently valid OMB control number. The OMB control numbers for EPA's regulations in title 40 of the CFR, after appearing in the Federal Register when approved, are listed in 40 CFR part 9, are displayed either by publication in the Federal Register or by other appropriate means, such as on the related collection instrument or form, if applicable. The display of OMB control numbers in certain EPA regulations is consolidated in 40 CFR part 9.

Abstract: This information collection is requested under the authority of Title II of the Clean Air Act (42 U.S.C. 7521 et seq.). Under this Title, EPA is charged with issuing certificates of conformity for those engines that comply with applicable emission standards. Such a certificate must be issued before engines may be legally introduced into commerce. To apply for a certificate of conformity, manufacturers are required to submit descriptions of their planned production line, including detailed descriptions of the emission control system, and test data. This information is organized by “engine family” groups expected to have similar emission characteristics. The emission values achieved during certification testing may also be used in the Averaging, Banking, and Trading (ABT) Program. The program allows manufacturers to bank credits for engine families that emit below the standard and use the credits for families that emit above the standard. They may also trade banked credits with other manufacturers. Participation in the ABT program is voluntary. Different categories of spark-ignition engines may also be required to comply with production-line testing and in-use testing. There are also recordkeeping and labeling requirements. For this renewal, former ICR 1722.06 (“Emission Certification and Compliance Requirements for Spark-Ignition Marine Engine, OMB Control Number 2060-0321) and former ICR 2251.03 (Control of Emissions from Nonroad Spark-Ignition Engines and Equipment, OMB Control Number 2060-0603) were incorporated into ICR 1695.10. This action was undertaken to consolidate certification and compliance information requirements for spark-ignition engines into one ICR for simplification. With this consolidation, we combine the entire certification and compliance burden associated with the spark-ignition engine industry. This information is collected electronically by the Gas Engine Compliance Center (GECC), Compliance Division, Office of Transportation and Air Quality (OTAQ), Office of Air and Radiation of the U.S. Environmental Protection Agency. GECC uses this information to ensure that manufacturers are in compliance with applicable regulations and the Clean Air Act (CAA). It may also be used by EPA's Office of Enforcement and Compliance Assurance (OECA) and the Department of Justice for enforcement purposes. Non-Confidential Business Information (CBI) may be disclosed on OTAQ's Web site or upon request under the Freedom of Information Act to trade associations, environmental groups, and the public.

Burden Statement: The annual public reporting and recordkeeping burden for this collection of information is estimated to average 83 hours per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements which have subsequently changed; train personnel to be able to respond to a collection of information; search data sources; complete and review the collection of information; and transmit or otherwise disclose the information.

Respondents/Affected Entities: Manufacturers of nonroad spark-ignition engines and marine spark-ignition engines.

Estimated Number of Respondents: 354.

Frequency of Response: Annual or on occasion.

Estimated Total Annual Hour Burden: 265,475 hours.

Estimated Total Annual Cost: $27,238,590, which includes $9,604,355 annualized capital or O&M costs.

Changes in the Estimates: There is a decrease of 98,711 hours in the total estimated burden currently identified in the OMB Inventory of Approved ICR Burdens. There is a decrease in burden from the previous ICR. This reduction is due primarily to the following reasons: (1) The fact that most applications for certification are now carry-overs, which require minimal time to prepare; and (2) the use of a web-based system where manufacturers can submit their responses, including applications for certification and reports under the other compliance programs included in this ICR.

John Moses,
Director, Collection Strategies Division.

[FR Doc. 2012-21268 Filed 8-28-12; 8:45 am]

BILLING CODE 6560-50-P